ENVIRONMENTAL PROTECTION AGENCY

[ER-FRL-6688-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 6, 2007 (72 FR 17156).

Draft EISs

EIS No. 20070080, ERP No. D-NIG-K60038-CA, Graton Rancheria Casino and Hotel Project, Transfer of Land into Trust, Implementation, Federated Indians of Graton Rancheria (Tribe), Sonoma County, CA.

Summary: EPA expressed environmental concerns about impacts to groundwater, and recommended the evaluation and selection of a reduced-size alternative and a commitment to green building practices. Rating EC2.

EIS No. 20070120, ERP No. D-FRC-E05102-SC, Santee Cooper Hydroelectric Project (FERC. No. 199), Relicensing for Existing 130-megawatt (MW), Santee and Cooper Rivers, Berkeley, Calhoun, Clarendon, Orangeburg and Sumter Counties, SC.

Summary: EPA expressed environmental concerns about water quality from dam releases. EPA supports an overall monitoring approach following license issuance that includes rigorous continuous dissolved oxygen (DO) and temperature monitoring, and a commitment to pursue a DO enhancement program based on the results of this monitoring. Rating EC1.

EIS No. 20070130, ERP No. D-NOA-B91029-00, Phase I—Essential Fish Habitat Omnibus Amendment #2, Designations for 27 Species, Amendment #14 to the Northeast Multispecies FMP, Amendment #14 to the Atlantic Scallop FMP, Amendment #3 to the Atlantic Herring FMP, Amendment 4 to the Monkfish FMP, Amendment 1 to the Deep-Sea Red Crab FMP, Amendment 2 to the Skates FMP and Amendment 3 to the Atlantic Salmon FMP, Maine to North Carolina.

Summary: EPA does not object to the project as proposed. Rating LO.

EIS No. 20070133, ERP No. D-FRC-E03016-GA, Elba III Project, Construct, Operate and Acquire Facilities to move Re-Vaporized Liquefied Natural Gas (LNG), U.S. Army COE Section 10 and 404 Permits and U.S. Coast Guard Permit, Elba Island, Chatham County, GA.

Summary: EPA expressed environmental concerns because the draft EIS did not include an analysis of all potential pollutant emissions for the project and facility. EPA recommended that the final EIS provide a complete air quality assessment of the entire terminal facility to complement the assessment of the proposed terminal expansion. EPA also recommended that additional information be provided in the final EIS regarding general conformity requirements. Rating EC2.

EIS No. 20070149, ERP No. D-FRC-G03034-00, Southeast Expansion Project, Construction and Operation of 110.8 miles for Natural Gas Pipeline and Associated Ancillary Facilities, TX and LA.

Summary: EPA does not object to the proposed action. Rating LO.

EIS No. 20070155, ERP No. D-USA-E15000-GA, Fort Benning U.S. Army Infantry Center, Base Realignment and Closure (BRAC) 2005 and Transformation Actions, Implementation, Chattahoochee and Muscogee Counties, GA.

Summary: EPA expressed environmental concerns about impacts to air quality, aquatic habitats, wetlands, and water quality, and recommends several actions that Fort Benning could implement during construction and long term operations to assist in meeting air quality standards. Rating EC2.

EIS No. 20070159, ERP No. D-COE-E39068-FL, Central and Southern Florida Project, Comprehensive Everglades Restoration Plan, Caloosahatchee River (C-43) West Basin Storage Reservoir Project, Restoration of the Ecosystem in Caloosahatchee Estuary, Lake Okeechobee, FL.

Summary: EPA supports this major component of the Comprehensive Everglades Restoration Plan, and provided comments regarding water quality assurance for flows released from the proposed C-43 Basin Storage Reservoir to benefit the lower Caloosahatchee River and Estuary. Rating EC1.

EIS No. 20070160, ERP No. DD-NOA-B91017-00, Atlantic Sea Scallop Fishery Management Plan (FMP), Amendment 11, Implementation to Control Capacity and Mortality in the General Category Scallop Fishery, Gulf of Maine, Georges Bank, NC.

Summary: EPA does not object to the proposed action. Rating LO.

EIS No. 20070145, ERP No. DS-AFS-J65435-UT, Ogden Ranger District Travel Plan Revision, To Present Additional Analysis for Six Alternatives, Wasatch-Cache National Forest, Ogden Ranger District, Box Elder, Cache, Morgan, Weber and Rich Counties, UT.

Summary: EPA continues to express environmental concerns about potential impacts to both aquatic and terrestrial resources from unauthorized motorized vehicle use and the current travel management system. The Final EIS should include mitigation for impacts caused by motorized recreational users. Rating EC2.

Final EISs

EIS No. 20060405, ERP No. F-CGD-ALL078-00, PROGRAMMATIC—Implementation of the U.S. Coast Guard Nationwide Automatic Identification System Project, Providing Vessel Identification, Tracking and Information Exchange Capabilities to Support National Maritime Interests.

Summary: No formal comment letter was sent to the preparing agency.

EIS No. 20070158, ERP No. F-FAA-L51017-AK, Juneau International Airport, Proposed Development Activities to Enhance Operations Safety, Facilitate Aircraft Alignment, U.S. Army COE Section 404 Permit, City and Borough of Juneau, AK.

Summary: EPA continues to have concerns about impacts to high value tidal and estuarine wetlands, fish and wildlife habitat, aquatic resources, and impaired waterbodies. EPA supports the selection of Alternative RSA-5E, but recommends the development of a compensatory mitigation plan.

EIS No. 20070180, ERP No. F-NOA-L64052-00, PROGRAMMATIC—Steller Sea Lion and Northern Fur Seal Research, Proposal to Disburse Funds and Issue Permit for Research, AK, WA, OR and CA.

Summary: EPA appreciates the inclusion of additional information pertaining to the development of impact criteria and a more detailed discussion of direct and indirect mortality in the FPEIS. However, EPA still has concerns about intrusive research activities on breeding age female sea lions and fur seals.

EIS No. 20070206, ERP No. F-FHW-C40168-NY, NY Route 347 Safety and Mobility Improvement Project, from Northern State Parkway to NY Route 25A, Funding, Towns of Smithtown, Islip and Brookhaven, Suffolk County, NY.

Summary: No formal comment letter was sent to the preparing agency.

EIS No. 20070175, ERP No. FS-USN-A10072-00, Surveillance Towed Array Sensor System Low Frequency Active (SURTASS LFA) Sonar Systems, Updated and Additional Information, Implementation.

Summary: No formal comment letter was sent to the preparing agency.

Dated: June 19, 2007.
Robert W. Hargrove,
Director, NEPA Compliance Division, Office of Federal Activities.

[FR Doc. E7-12126 Filed 6-21-07; 8:45 am]

BILLING CODE 6560-50-P